DEPARTMENT OF JUSTICE

Federal Bureau of Investigation

[OMB Number 1110-0076]

Agency Information Collection Activities; Proposed eCollection eComments Requested; Revision of a Currently Approved Collection

AGENCY: Federal Bureau of Investigation, Department of Justice.

ACTION: 30 Day notice.

SUMMARY: The Department of Justice, Federal Bureau of Investigation, Training Division is submitting the following information collection request to the Office of Management and Budget (OMB) for review and approval in accordance with the Paperwork Reduction Act of 1995.

DATES: The Department of Justice encourages public comment and will accept input until April 22, 2020.

FOR FURTHER INFORMATION CONTACT: If you have additional comments especially on the estimated public burden or associated response time, suggestions, or need a copy of the proposed information collection instrument with instructions or additional information, please contact Kevin R. Furtick, Chief, Evaluation and Assessment Unit, 1234 Range Road, Quantico, VA, krfurtick@fbi.gov, 703-632-3222. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

➢ Evaluate whether the proposed collection of information is necessary for the proper performance of the functions of the Department of Justice, Federal Bureau of Investigation, Training Division, including whether the information will have practical utility;

➢ Evaluate the accuracy of the agency's estimate of the burden of the proposed collection of information, including the validity of the methodology and assumptions used;

➢ Evaluate whether and if so how the quality, utility, and clarity of the information to be collected can be enhanced; and

➢ Minimize the burden of the collection of information on those who are to respond, including through the use of appropriate automated, electronic, mechanical, or other technological collection techniques or other forms of information technology, e.g., permitting electronic submission of responses.

Overview of This Information Collection

1. Type of Information Collection: New Collection.

2. The Title of the Form/Collection: FBI Training Generic Clearance.

3. The agency form number, if any, and the applicable component of the Department sponsoring the collection: There is no agency form number for this collection. The applicable component within the Department of Justice is the Federal Bureau of Investigation, Training Division, Evaluation and Assessment Unit.

4. Affected public who will be asked or required to respond, as well as a brief abstract: Respondents of this collection include members of the State, Local or Tribal Government Law Enforcement community and Federal Government Law Enforcement partners. This collection will gather feedback from FBI training programs to ensure the training delivered is realistic and relevant to today's law enforcement partners.

5. An estimate of the total number of respondents and the amount of time estimated for an average respondent to respond: Respondents are estimated to be 10,000 annually with an estimated time to complete each survey to be less than 10 minutes each per respondent per collection.

6. An estimate of the total public burden (in hours) associated with the collection: The total estimated time for respondents to complete these evaluations is approximately 8,750 hours.

If additional information is required contact: Melody Braswell, Department Clearance Officer, United States Department of Justice, Justice Management Division, Policy and Planning Staff, Two Constitution Square, 145 N Street NE, 3E.405A, Washington, DC 20530.

Dated: March 17, 2020.
Melody Braswell,
Department Clearance Officer for PRA, U.S. Department of Justice.

[FR Doc. 2020-05976 Filed 3-20-20; 8:45 am]

BILLING CODE 4410-18-P